Title 3—

The President

Executive Order 13598 of January 27, 2012

Assignment of Functions Relating to Certain Promotion and Appointment Actions in the Armed Forces

By the authority vested in me as President by the Constitution and the laws of the United States of America, including section 301 of title 3, United States Code, it is hereby ordered as follows:

Section 1. Assignment of Functions to the Secretary of Defense. The Secretary of Defense shall perform the functions of the President under the following provisions of title 10, United States Code:

(a) the first sentence of section 14111(a) with respect to reports relating to the grades of brigadier general or above, or rear admiral (lower half) or above;

(b) sections 629(c)(2) and 14310(c)(2) with respect to extending officer promotion eligibility periods; and

(c) section 6222(c)(2) with respect to appointments of members of the Marine Band and members of the Marine Drum and Bugle Corps to grades not above the grade of captain.

Sec. 2. Reassignment of Functions Assigned. The Secretary of Defense may reassign the functions assigned to him by sections 1(a) and (b)of this order only to civilian officers within the Office of the Secretary of Defense (as defined in section 131(b) of title 10, United States Code) who hold a position for which the President makes an appointment by and with the advice and consent of the Senate. The Secretary of Defense may not reassign the function assigned to him by section 1(c) of this order.

Sec. 3. General Provisions. (a) Nothing in this order shall be construed to limit or otherwise affect the authority of the President as Commander in Chief of the Armed Forces of the United States, or under the Constitution and laws of the United States to nominate or to make or terminate appointments.

(b) This order is not intended to, and does not, create any right or benefit, substantive or procedural, enforceable at law or in equity by any party against the United States, its departments, agencies, or entities, its officers, employees, or agents, or any other person.

THE WHITE HOUSE,

January 27, 2012.

[FR Doc. 2012-2557

Filed 2-1-12; 11:15 am]

Billing code 3295-F2-P